DEPARTMENT OF JUSTICE

Notice of Lodging of Proposed Consent Decree Under the Clean Water Act

On March 12, 2019, the Department of Justice lodged a second proposed partial consent decree with the United States District Court for the District of Hawaii in United States of America v. Azure Fishery LLC et al., Civil Action No. 1:18-cv-00339.

The complaint in this Clean Water Act (“CWA”) case alleges claims against Hawaii-based longline fishing companies Azure Fishery LLC and Linh Fishery LLC and individuals Hanh Nguyen, Khang Dang, Andy Hoang, and Tuan Hoang. The complaint addresses illegal discharges of oil from the commercial longline fishing vessel Jaxon T, now known as the St. Joseph, as well as related violations of the Coast Guard's pollution control regulations, including failure to provide sufficient capacity to retain oily bilge waste on board the vessel. As pertinent to the proposed settlement with Linh Fishery LLC, the complaint includes an injunctive relief claim under the Clean Water Act and a claim under the Federal Debt Collection Procedures Act concerning the alleged fraudulent conveyance of the Jaxon T after the oil discharge violations occurred.

Under the proposed partial consent decree, defendant Linh Fishery LLC will perform corrective measures to prevent future violations on the Jaxon T. Required actions include: (1) Making repairs to the vessel to reduce the quantity of oily waste generated during fishing voyages; (2) providing crewmembers with training on the proper handling of oily wastes; (3) documenting proper oily waste management and disposal after returning to port; and (4) submitting compliance reports to the Coast Guard and to the Department of Justice.

The publication of this notice opens a period for public comment on the second proposed partial consent decree. Comments should be addressed to the Assistant Attorney General, Environment and Natural Resources Division, and should refer to United States of America v. Azure Fishery LLC et al., D.J. Ref. No. 90-5-1-1-11849. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed consent decree may be examined and downloaded at this Justice Department website: https://www.justice.gov/enrd/consent-decrees. We will provide a paper copy of the proposed consent decree upon written request and payment of reproduction costs. Please mail your request and payment to: Consent Decree Library, U.S. DOJ—ENRD, P.O. Box 7611, Washington, DC 20044-7611.

Please enclose a check or money order for $14.25 (25 cents per page reproduction cost) payable to the United States Treasury.

Henry Friedman,
Assistant Section Chief, Environmental Enforcement Section, Environment and Natural Resources Division.

[FR Doc. 2019-05096 Filed 3-18-19; 8:45 am]

BILLING CODE 4410-15-P